DEPARTMENT OF ENERGY

Federal Energy Regulatory Commission

[Docket No. ER00-3758-000]

Coyote Springs 2, LLC; Notice of Filing

September 28, 2000.

Take notice that on September 26, 2000, Coyote Springs 2, LLC (Coyote Springs 2) tendered for filing a petition for acceptance of an initial rate schedule authorizing Coyote Springs 2 to make wholesale sales of power at market-based rates.

Any person desiring to be heard or to protest said filing should file a motion to intervene or protest with the Federal Energy Regulatory Commission, 888 First Street, NE., Washington, DC 20426, in accordance with Rules 211 or 215 of the Commission's Rules of Practice and Procedure (18 CFR 385.211 or 385.214). All such motions to intervene and protests should be filed on or before October 6, 2000. Protests will be considered by the Commission in determining the appropriate action to be taken but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-25411 Filed 10-3-00; 8:45 am]

BILLING CODE 6717-01-M